COMMITTEE FOR THE IMPLEMENTATION OF TEXTILE AGREEMENTS

Adjustment of an Import Sublimit for Certain Man-Made Fiber Textile Products Produced or Manufactured in Belarus

September 28, 2004.

AGENCY: Committee for the Implementation of Textile Agreements (CITA).

ACTION: Issuing a directive to the Commissioner, Bureau of Customs and Border Protection adjusting a sublimit.

EFFECTIVE DATE: September 30, 2004.

FOR FURTHER INFORMATION CONTACT: Naomi Freeman, International Trade Specialist, Office of Textiles and Apparel, U.S. Department of Commerce, (202) 482-4212. For information on the quota status of this sublimit, refer to the Quota Status Reports posted on the bulletin boards of each Customs port, call (202) 927-5850, or refer to the Bureau of Customs and Border Protection website at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current sublimit for Category 622-N is being adjusted for carryforward. The limit and sublimit for 622 and 622-L remain unchanged.

A description of the textile and apparel categories in terms of HTS numbers is available in the CORRELATION: Textile and Apparel Categories with the Harmonized Tariff Schedule of the United States (see Federal Register notice 69 FR 4926, published on February 2, 2004). Also see 68 FR 70494, published on December 18, 2003; and 69 FR 10429, published on March 5, 2004.

D. Michael Hutchinson,
Acting Chairman, Committee for the Implementation of Textile Agreements.

Committee for the Implementation of Textile Agreements

September 28, 2004.

Commissioner,

Bureau of Customs and Border Protection, Washington, DC 20229.

Dear Commissioner: This directive amends, but does not cancel, the directives issued to you on December 12, 2003 and March 1, 2004, by the Chairman, Committee for the Implementation of Textile Agreements. These directives concern imports of certain wool and man-made fiber textile products, produced or manufactured in Belarus and exported during the twelve-month period which began on January 1, 2004 and extends through December 31, 2004.

Effective on September 30, 2004, you are directed to adjust the sublimit for Category 622-N, as provided for under the agreement between the Governments of the United States and Belarus dated January 10, 2003:

Category | Twelve-month restraint limit ¹
622 | 9,494,193 square meters of which not more than 1,590,000 square meters shall be in Category 622-L ², and not more than 648,006 square meters shall be in Category 622-N ³.
¹ The limits have not been adjusted to account for any imports exported after December 31, 2003.
² Category 622-L: only HTS numbers 7019.51.9010, 7019.52.4010, 7019.52.9010, 7019.59.4010, and 7019.59.9010.
³ Category 622-N : only HTS numbers 7019.52.40.21, 7019.52.90.21, 7019.59.40.21, 7019.59.90.21.

The Committee for the Implementation of Textile Agreements has determined that these actions fall within the foreign affairs exception to the rulemaking provisions of 5 U.S.C.553(a)(1).

Sincerely,

D. Michael Hutchinson,

Acting Chairman, Committee for the Implementation of Textile Agreements.

[FR Doc. 04-22098 Filed 9-29-04; 8:45 am]

BILLING CODE 3510-DR-S